DEPARTMENT OF LABOR

Employment and Training Administration

Workforce Investment Act of 1998: Proposed Collection: Notice of Intent To Reinstate the Unified State Planning Guidance; Correction

AGENCY: Employment and Training Administration, USDOL.

ACTION: Correction.

SUMMARY: In notice document 02-31560 beginning on page 76758 in the issue of Friday, December 13, 2002, make the following correction: In the first column, following the category for SUMMARY, please insert the following text:

DATES: Written comments must be submitted to the office listed in the addressee's section below on or before February 18, 2003.

ADDRESSES: Maria Flynn, Office of One-Stop Operations/ATTN: Dolores Hall-Beran, U.S. Department of Labor, 200 Constitution Avenue, NW., Room S-4231, Washington, DC 20210: (202) 693-3045 (phone) (this is not a toll-free number); (202) 693-3015 (fax); or e-mail: dberan@doleta.gov.

Signed at Washington, DC this 16th day of December, 2002.
Grace A. Kilbane,
Administrator, Office of Workforce Investment, Employment and Training Administration.

[FR Doc. 02-32096 Filed 12-19-02; 8:45 am]

BILLING CODE 4510-30-P